DEPARTMENT OF HOUSING AND URBAN DEVELOPMENT

[Docket No. FR-5487-N-16]

Notice of Submission of Proposed Information Collection to OMB; Emergency Comment Request Choice Neighborhoods

AGENCY: Office of the Assistant Secretary for Public and Indian Housing, HUD.

ACTION: Notice of proposed information collection.

SUMMARY: The proposed information collection requirement described below has been submitted to the Office of Management and Budget (OMB) for review and approval, as required by the Paperwork Reduction Act of 1995 (44 U.S.C. Chapter 35, as amended). The Department is soliciting public comments on the subject proposal, to assure better understanding of the reporting requirements and consistency in the submission of data.

DATES: Comments Due Date: May 26, 2011.

ADDRESSES: Interested persons are invited to submit comments regarding this proposal. Comments must be received within seven (14) days from the date of this Notice. Comments should refer to the proposal by name/or OMB approval number) and should be sent to: HUD Desk Officer, Office of Management and Budget, New Executive Office Building, Washington, DC 20503; e-mail: Ross_A._Rutledge@omb.eop.gov; fax: 202-395-3086.

FOR FURTHER INFORMATION CONTACT: Reports Management Officer, QDAM, Department of Housing and Urban Development, 451 7th Street, SW., Washington, DC 20410; e-mail Colette.Pollard@HUD.gov; telephone (202) 402-3400. This is not a toll-free number. Copies of available documents submitted to OMB may be obtained from the Reports Management Officer. Persons with hearing or speech impairments may access this number through TTY by calling the toll-free Federal Information Relay Service at (800) 877-8339. (Other than the HUD USER information line and TTY numbers, telephone number is not toll-free.)

SUPPLEMENTARY INFORMATION: This Notice informs the public that the U.S. Department of Housing and Urban Development (HUD) has submitted to OMB, for emergency processing, a proposed information collection that supports the Choice Neighborhoods Notice of Funding Availability (NOFA).

Title of Proposal: Choice Neighborhoods.

OMB Control Number: 2577-0269.

Description of Information Collection: This is a revised information collection. The Department of Housing and Urban Development Appropriations Act. 2010 (Pub. L. 111-117, enacted on December 16, 2009) permits the HUD Secretary to use up to $65,000,000 of the HOPE VI appropriations for Choice Neighborhoods Initiative demonstration. Thus, except as otherwise specified in the appropriations act, the HOPE VI program requirements and selection criteria will apply to Choice Neighborhoods grant for FY 2011. The notice of Funding Availability (NOFA) will contain the selection criteria for awarding Choice Neighborhoods grants and specific requirements that will apply to selected grantees.

The program aims to transform neighborhoods of poverty into viable mixed-income neighborhoods with access to economic opportunities by revitalizing severely distressed public and assisted housing and investing and leveraging investment in well-functioning services, effective schools and education programs, public assets, public transportation and improved access to jobs. Choice Neighborhoods grants will primarily fund the transformation of public and/or HUD-assisted housing developments through preservation, rehabilitation, and management improvements as well as demolition and new construction. In addition, these funds can be used on a limited basis (and combined with other funding) for improvements to the surrounding community, public services, facilities, assets, and supportive services. Choice Neighborhoods grant funds are intended to catalyze other investments that will be directed toward necessary community improvements. The leveraging of other sources will be necessary to address other key neighborhood assets and achieve the program's core goals. HUD is working with other Federal agencies to integrate Choice Neighborhoods with other Federal place-based programs.

Agency Form Numbers: HUD Form 53233, HUD Form 53237, HUD Form 53239, HUD Form 53234, HUD Form 53235, HUD Form 53154, HUD Form 53240, HUD Form 53151, HUD Form 53150, HUD Form 53153, HUD Form 53236, HUD Form 53232, HUD Form 53152, HUD Form 53238, HUD Form 53230, HUD Form 53231.

Members of Affected Public: Local governments, public housing authorities, nonprofits, and for-project developers that apply jointly with a public entity.

Estimation of the total numbers of hours needed to prepare the information collection including number of respondents, frequency of responses, and hours of response: For Choice Neighborhoods burden hours per response total to 68.09 for Implementation Grant applications and 34.59 for Planning Grant applications. The total burden hours, estimating 150 respondents for both applications is 6,864.

Status of the proposed information collection: This is an Emergency Information Collection.

Authority: The Paperwork Reduction Act of 1995, 44 U.S.C. Chapter 35, as amended.

Dated: May 12, 2011.
Colette Pollard,
Departmental Reports Management Officer, Office of the Chief Information Officer.

[FR Doc. 2011-12275 Filed 5-18-11; 8:45 am]

BILLING CODE 4210-67-P